DEPARTMENT OF LABOR

Employment and Training Administration

[TA-W-62,417]

Avery Dennison Corporation, Information and Brand Management, RVL Packaging; Including On-Site Leased Workers from Adecco and Workforce Logic, Greensboro, NC; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility To Apply for Worker Adjustment Assistance and Alternative Trade Adjustment Assistance on December 5, 2007, applicable to workers of Avery Dennison Corporation, Information and Brand Management, including on-site leased workers from Adecco and Workforce Logic, Greensboro, North Carolina. The notice was published in the Federal Register on December 19, 2007 (72 FR 71964).

At the request of a company official, the Department reviewed the certification for workers of the subject firm. The workers are engaged in the production of printed and heat transfer labels for the apparel industry.

New information provided to the Department shows that some of the workers' wages at the subject firm are being reported under the Unemployment Insurance (UI) tax account for RVL Packaging.

Accordingly, the Department is amending this certification to properly reflect this matter.

The intent of the Department's certification is to include all workers of Avery Dennison Corporation, Information and Brand Management who were adversely affected by a shift in production to Mexico and El Salvador.

The amended notice applicable to TA-W-62,417 is hereby issued as follows:

All workers of Avery Dennison Corporation, Information and Brand Management, RVL Packaging, including on-site leased workers from Adecco and Workforce Logic, Greensboro, North Carolina, who became totally or partially separated from employment on or after November 19, 2006, through December 5, 2009, are eligible to apply for adjustment assistance under section 223 of the Trade Act of 1974, and are also eligible to apply for alternative trade adjustment assistance under section 246 of the Trade Act of 1974.

Signed at Washington, DC this 10th day of January 2008.
Linda G. Poole,
Certifying Officer, Division of Trade Adjustment Assistance.

[FR Doc. E8-841 Filed 1-17-08; 8:45 am]

BILLING CODE 4510-FN-P